DEPARTMENT OF TRANSPORTATION

Federal Aviation Administration

14 CFR Part 39

[Docket No. 2000-NM-117-AD; Amendment 39-12167; AD 2001-07-02]

RIN 2120-AA64

Airworthiness Directives; Airbus Model A330-301, -321, -322, -341, and -342 Series Airplanes; and Model A340-211, -212, -213, -311, -312, and -313 Series Airplanes

AGENCY: Federal Aviation Administration, DOT.

ACTION: Final rule; request for comments.

SUMMARY: This amendment adopts a new airworthiness directive (AD) that is applicable to certain Airbus Model A330 and A340 series airplanes. This action requires a one-time inspection for cracks on the attachment holes of the doorstop fitting on the aft passenger/crew doors; repair, if necessary; and modification of the attachment holes. This action is necessary to detect and prevent fatigue cracking of the attachment holes for doorstop fitting number 5, which could result in reduced structural integrity of the door frames. This action is intended to address the identified unsafe condition.

DATES: Effective April 20, 2001.

The incorporation by reference of certain publications listed in the regulations is approved by the Director of the Federal Register as of April 20, 2001.

Comments for inclusion in the Rules Docket must be received on or before May 7, 2001.

ADDRESSES: Submit comments in triplicate to the Federal Aviation Administration (FAA), Transport Airplane Directorate, ANM-114, Attention: Rules Docket No. 2000-NM-117-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2000-NM-117-AD” in the subject line and need not be submitted in triplicate. Comments sent via the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The Direction Générale de l'Aviation Civile (DGAC), which is the airworthiness authority for France, notified the FAA that an unsafe condition may exist on certain Airbus Model A330 and A340 series airplanes. The DGAC advises that, during fatigue tests, cracks were found, starting at the attachment holes for doorstop fitting No. 5 at frame 73A on the aft passenger/crew doors. This condition, if not corrected, could result in reduced structural integrity of the door frames.

Although the fatigue tests were performed on the Model A340 series airplane, the subject area on affected Model A330 series airplanes is almost identical to that on the affected Model A340 series airplanes. Therefore, those Model A330 series airplanes may be subject to the same unsafe condition revealed on the Model A340 series airplanes.

Explanation of Relevant Service Information

Airbus has issued Service Bulletins A330-53-3074, Revision 01 (for Model A330 series airplanes), and A340-53-4085, Revision 01 (for Model A340 series airplanes), both dated May 19, 1998, which describe, among other things, procedures for inspection of the two inboard attachment holes and the support fitting in frame 73A of the aft passenger/crew doors for cracks, and cold expansion of the holes and the addition of bushings to improve the fatigue behavior of the doorstop fittings. Accomplishment of the actions specified in the service bulletins is intended to adequately address the identified unsafe condition.

The DGAC classified the inspections as mandatory and the cold expansion modifications as optional and issued French airworthiness directives 2000-126-114(B) (for Model A330 series airplanes) and 2000-125-139(B) (for Model A340 series airplanes), both dated March 8, 2000, in order to assure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of the Rule

Since an unsafe condition has been identified that is likely to exist or develop on other airplanes of the same type design that may be registered in the United States at some time in the future, this AD is being issued to detect and prevent fatigue cracking of the of the attachment holes for doorstop fitting number 5, which could result in reduced structural integrity of the door frames. This AD requires inspection of the two inboard attachment holes and the support fitting in frame 73A of the aft passenger/crew doors for cracks; repair, if necessary; and cold expansion of the holes and the addition of bushings to improve the fatigue behavior of the doorstop fittings, the accomplishment of which constitutes terminating action for certain inspections. The actions are required to be accomplished in accordance with the service bulletins described previously, except as discussed below.

Differences Between This AD and the Service Bulletins and Foreign Airworthiness Directives

This AD differs from the parallel French airworthiness directives in that they mandate the accomplishment of the cold expansion of the holes and the addition of bushings. The French airworthiness directives provide for those actions as optional, in lieu of repetitive inspections. Mandating the modification is based on the FAA's determination that long-term continued operational safety will be better ensured by modifications or design changes to remove the source of the problem, rather than by repetitive inspections. Long-term inspections may not be providing the degree of safety assurance necessary for the transport airplane fleet. This, coupled with a better understanding of the human factors associated with numerous continual inspections, has led the FAA to consider placing less emphasis on inspections and more emphasis on design improvements. This modification requirement is consistent with these conditions.

Operators should note that, although the service bulletins specify that the manufacturer may be contacted for disposition of certain repair conditions, this AD requires the repair of those conditions to be accomplished in accordance with a method approved by either the FAA or the DGAC (or its delegated agent). In light of the type of repair that will be required to address the identified unsafe condition, and in consonance with existing bilateral airworthiness agreements, the FAA has determined that, for this AD, a repair approved by either the FAA or the DGAC will be acceptable for compliance with this AD.

In addition, although the service bulletins refer to inspection service bulletins that must be followed prior to or concurrent with the modifications, this AD does not require accomplishment of those inspection service bulletins because the accomplishment of the modification cancels their inspection requirements.

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 4 work hours to accomplish the required actions, at an average labor rate of $60 per work hour. The cost of required parts would be minimal. Based on these figures, the cost impact of this AD is estimated to be $240 per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-117-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-07-02 Airbus Industrie: Amendment 39-12167. Docket 2000-NM-117-AD.

Applicability: Model A330-301, -321, -322, -341, and -342 series airplanes, and Model A340-211, -212, -213, -311, -312, and -313 series airplanes, certificated in any category, except those on which Airbus Modification 41849 or 44932 (reference Service Bulletin A330-53-3074, Revision 01, for Model A330 series airplanes; or A340-53-4085 Revision 01, for Model A340 series airplanes; both dated May 19, 1998) has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent propagation of fatigue cracking, which could result in reduced structural integrity of the door frames, accomplish the following:

Inspection

(a) Conduct an eddy current rotating probe test procedure on the holes for doorstop fitting number 5 (left and right) on frame 73A, as specified in paragraph (a)(1) or (a)(2), as applicable, of this AD.

(1) For Model A330 series airplanes: Prior to the accumulation of 13,000 total flight cycles, conduct the test in accordance with Airbus Service Bulletin A330-53-3074, Revision 01, dated May 19, 1998.

(2) For Model A340 series airplanes: Prior to the accumulation of 8,000 total flight cycles, conduct the test in accordance with Airbus Service Bulletin A340-53-4085, Revision 01, dated May 19, 1998.

Repairs

(b) If any crack is detected during the inspection required by paragraph (a) of this AD, prior to further flight, repair in accordance with a method approved by either the Manager, International Branch, ANM-116, FAA, Transport Airplane Directorate; or the Direction Générale de l'Aviation Civile (DGAC) (or its delegated agent).

Terminating Action

(c) Before further flight following the inspection required in paragraph (a) of this AD, cold expand the holes for (left and right) doorstop fitting number 5 and install bushings, in accordance with Airbus Service Bulletin A330-53-3074, Revision 01 (for Model A330 series airplanes), or Airbus Service Bulletin A340-53-4085, Revision 01 (for Model A340 series airplanes), both dated May 19, 1998, as applicable. Accomplishment of this action constitutes terminating action for the requirements of this AD.

Note 2: Inspection and modification accomplished prior to the effective date of this AD, in accordance with Airbus Service Bulletin A330-53-3074, dated November 17, 1997 (for Model A330 series airplanes), or Airbus Service Bulletin A340-53-4085, dated November 17, 1997 (for Model A340 series airplanes), as applicable, are considered acceptable for compliance with the applicable action specified in this AD.

Alternative Methods of Compliance

(d) An alternative method of compliance or adjustment of the compliance time that provides an acceptable level of safety may be used if approved by the Manager, International Branch, ANM-116. Operators shall submit their requests through an appropriate FAA Principal Maintenance Inspector, who may add comments and then forward the requests and added comments to the Manager, International Branch, ANM-116.

Note 3: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) Except as required by paragraph (b) of this AD, the actions shall be done in accordance with Airbus Service Bulletin A330-53-3074, Revision 01, dated May 19, 1998; or Airbus Service Bulletin A340-53-4085, Revision 01, dated May 19, 1998; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directives 2000-126-114(B), dated March 8, 2000, and 2000-125-139(B), dated March 8, 2000.

Effective Date

(g) This amendment becomes effective on April 20, 2001.

Issued in Renton, Washington, on March 26, 2001.
Donald L. Riggin,
Acting Manager, Transport Airplane Directorate, Aircraft Certification Service.

[FR Doc. 01-7960 Filed 4-4-01; 8:45 am]

BILLING CODE 4910-13-U